DEPARTMENT OF TRANSPORTATION

Federal Aviation Administration

[Docket No. FAA-2006-25755]

Operating Limitations at New York LaGuardia Airport; Notice of Order

AGENCY: Federal Aviation Administration (FAA), DOT.

ACTION: Notice of proposed amendment to order; request for comments.

SUMMARY: The Federal Aviation Administration (FAA) is proposing amending the Order Limiting Scheduled Operations at New York LaGuardia that published in the Federal Register on December 27, 2006. This amendment, if adopted, would reduce the number of reservations available for unscheduled operations from six per hour to three per hour.

FOR FURTHER INFORMATION CONTACT: Rebecca MacPherson, Assistant Chief Counsel for Regulations, Office of the Chief Counsel, AGC-200, Federal Aviation Administration, 800 Independence Avenue, SW., Washington, DC 20591; telephone (202) 267-3073.

DATES: The FAA invites interested persons to submit written comments on this proposal by no later than May 1, 2008 in Docket FAA-2006-25755. We will give full consideration to comments received before we issue a final modification to the Order. You may send comments using any of the following methods:

• DOT Docket Web site: Go to http://dms.dot.gov and follow the instructions for sending your comments electronically.

• Mail: U.S. Department of Transportation, Docket Operations, M-30, Room W12-140, 1200 New Jersey Ave., SE., Washington, DC 20590.

• Fax: (202) 493-2251.

• Hand Delivery: West Building, Ground Floor, Room W12-140, U.S. Department of Transportation, 1200 New Jersey Ave., SE., Washington, DC, 20590 between 9 a.m. and 5 p.m., Monday through Friday, except for Federal holidays.

SUPPLEMENTARY INFORMATION: The FAA proposes to modify its December 12, 2006 Order, (the Order) that temporarily limits flight operations at New York's LaGuardia Airport (LaGuardia), pending its promulgation of a long-term regulation to manage congestion at the airport. We propose to reduce the number of unscheduled operations from six per hour to three. These proposed amendments would not affect scheduled operations.

I. Background

Due to LaGuardia's limited runway capacity, the airport cannot accommodate the number of flights that airlines would like to operate without causing significant congestion. The FAA has long limited the number of arrivals and departures at LaGuardia during peak demand periods through the promulgation and implementation of the High Density Rule (HDR).¹ By statute enacted in April 2000, the HDR's applicability to LaGuardia operations terminated as of January 1, 2007.² On August 29, 2006, the FAA published a notice of proposed rulemaking (NPRM) in the Federal Register in anticipation of the HDR's expiration. 71 FR 51360. In the NPRM, the agency proposed another congestion management program for LaGuardia, which, among other things, would continue to limit the number of scheduled and unscheduled operations at LaGuardia. Because the rulemaking was not completed before January 1, 2007, the FAA, after notice and comment, adopted interim operational limitations on LaGuardia flights through the Order. 71 FR 77854 (December 27, 2006). Without the limits contained in the Order, the FAA projected that severe congestion-related delays would occur as a result of excessive demand at LaGuardia, leading to delays both at LaGuardia and at other airports throughout the National Airspace System.

¹ See 49 CFR part 93, subpart K.

² Aviation Investment and Reform Act for the 21st Century (AIR-21), P.L. 106-181 (April 5, 2000), 49 U.S.C. 41715(a)(2).

As part of that Order, the FAA imposed a reservation system for unscheduled operations at the airport. Specifically, the FAA provided that it would accommodate up to six unscheduled reservations per hour during the hours the airport was capped as long as the operators had secured a reservation with Air Traffic Control. The FAA has tentatively decided to reduce that number of available reservations from six to three per hour. Currently, the six hourly reservations held for unscheduled operations are not fully utilized.

The FAA and MITRE's Center for Advanced Aviation System Development (CAASD) has reviewed data on air traffic operations at LaGuardia for calendar year 2007 to determine the level of unscheduled operations at the airport. In 2007 there was an average of 36 weekday operations at the airport from 6 a.m. to 10 p.m., the period the Order is in effect. During the peak hours, unscheduled operations averaged three per hour.

The FAA published an Order imposing a cap on operations at John F. Kennedy International Airport on January 18, 2008. That order took effect March 30, 2008. In addition, the FAA intends to publish an order imposing a cap on operations at Newark Liberty International Airport later this spring. In conjunction with those two orders, the FAA intends to restrict the number of unscheduled operations, other than helicopters, at both airports. The FAA has not proposed to restrict operations at Teterboro.

The FAA is concerned that restricting unscheduled operations at JFK and Newark could encourage operators to move their unscheduled operations from those airports to LaGuardia. Delay numbers at LaGuardia for 2007 were among the highest in the country. The FAA is concerned that if additional unscheduled operations move to LaGuardia, those numbers could be even higher. To ensure that this does not happen, the FAA has tentatively decided to reduce the allowable number of unscheduled operations from six to three per hour.

Additional reservations could be made available for unscheduled operations depending on the weather, runway configuration or less than anticipated delays. In such instances the FAA would likely allow more than three unscheduled operations in a given hour. It is unlikely that the FAA would know more than eight hours in advance whether additional capacity is available. If additional capacity is available, reservations would be allocated through the Airport Reservation Office's e-CVRS reservation system and not through the local air traffic control facilities.

II. Proposed Amendment to the Order

With respect to unscheduled flight operations at LaGuardia, the FAA proposes to adopt the following measures:

1. The final order applies to all operators of unscheduled flights, except helicopter operations, at LaGuardia from 6 a.m. through 9:59 p.m., Eastern Time, Monday through Friday and from 12 noon through 9:59 p.m., Eastern Time, Sunday.

2. The final Order takes effect on January 1, 2007, and will expire at the first change of the scheduling season occurring no less than 90 days after the issuance of a final rule regulating congestion at LaGuardia.

3. No person can operate an aircraft other than a helicopter to or from LaGuardia unless the operator has received, for that unscheduled operation, a reservation that is assigned by the David J. Hurley Air Traffic Control System Command Center's Airport Reservation Office (ARO). Additional information on procedures for obtaining a reservation will be available via the Internet at http://www.fly.faa.gov/ecvrs.

4. Three (3) reservations are available per hour for unscheduled operations at LaGuardia. The ARO will assign reservations on a 30-minute basis.

5. The ARO receives and processes all reservation requests. Reservations are assigned on a “first-come, first-served” basis, determined as of the time that the ARO receives the request. A cancellation of any reservation that will not be used as assigned would be required.

6. Filing a request for a reservation does not constitute the filing of an instrument flight rules (IFR) flight plan, as separately required by regulation. After the reservation is obtained, an IFR flight plan can be filed. The IFR flight plan must include the reservation number in the “remarks” section.

7. Air Traffic Control will accommodate declared emergencies without regard to reservations. Non-emergency flights in direct support of national security, law enforcement, military aircraft operations, or public-use aircraft operations will be accommodated above the reservation limits with the prior approval of the Vice President, System Operations Services, Air Traffic Organization. Procedures for obtaining the appropriate reservation for such flights are available via the Internet at http://www.fly.faa.gov/ecvrs.

8. Notwithstanding the limits in paragraph 4, if the Air Traffic Organization determines that air traffic control, weather, and capacity conditions are favorable and significant delay is not likely, the FAA can accommodate additional reservations over a specific period. Unused operating authorizations can also be temporarily made available for unscheduled operations. Reservations for additional operations are obtained through the ARO.

9. Reservations cannot be bought, sold, or leased.

III. Request for Comments

The FAA invites all interested persons to submit written comments on the proposals described in this order by filing their written views in Docket FAA-2006-25755 on or before May 1, 2008. The FAA does not intend this proposal to address the longer-term issues that will be considered in the related proposed rulemaking. Therefore, any submissions to the current docket should focus on the issues specified in this proposed order.

Issued in Washington, DC, on April 10, 2008.
Rebecca B. MacPherson,
Assistant Chief Counsel for Regulations, Federal Aviation Administration.

[FR Doc. E8-8106 Filed 4-15-08; 8:45 am]

BILLING CODE 4910-13-P